DEPARTMENT OF JUSTICE

[OMB Number 1140-0007]

Agency Information Collection Activities; Proposed eCollection eComments Requested; Revision of a Previously Approved Collection; Release and Receipt of Imported Firearms, Ammunition, and Defense Articles

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until February 6, 2024.

FOR FURTHER INFORMATION CONTACT: If you have additional comments especially on the estimated public burden or associated response time, suggestions, or need a copy of the proposed information collection instrument with instructions or additional information, contact: Victoria Kenney, FEIB/FESD, either by mail at 244 Needy Road, Martinsburg, WV 25405, by email at Victoria.Kenney@atf.gov, or telephone at 304-616-3376.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The information collected on the Release and Receipt of Imported Firearms, Ammunition and Implements of War—ATF Form 6A (5330.3C) is used by ATF personnel to determine if articles meet the statutory and regulatory criteria for importation, and also if the articles shown on the permit application were actually imported. The Information Collection (IC) OMB 1140-0007 is being revised to include grammatical changes (sentence rephrasing/statement modification), added checkboxes and instructions.

Overview of This Information Collection

1. Type of Information Collection: Revision of a previously approved collection.

2. The Title of the Form/Collection: Release and Receipt of Imported Firearms, Ammunition, and Defense Articles.

3. The agency form number, if any, and the applicable component of the Department sponsoring the collection: Form number: ATF Form 6A (5330.3C).

Component: Bureau of Alcohol, Tobacco, Firearms and Explosives, U.S. Department of Justice.

4. Affected public who will be asked or required to respond, as well as the obligation to respond: Affected Public: Private Sector-for or not for profit institutions.

The obligation to respond is Mandatory per title 18 U.S.C. 925(a), 22 U.S.C. 2778, and 26 U.S.C. 5844.

5. An estimate of the total number of respondents and the amount of time estimated for an average respondent to respond: An estimated 25,000 respondents will utilize this form once annually, and it will take each respondent approximately 35 minutes to complete their responses.

6. An estimate of the total annual burden (in hours) associated with the collection: The estimated annual public burden associated with this collection is 14,285 hours, which is equal to 25,000 (total respondents) * 1 (# of response per respondent) * .58332 (35 minutes).

7 An estimate of the total annual cost burden associated with the collection, if applicable: There is no start-up cost associated with this collection. The respondents that do not file electronically must mail the form to ATF. Approximately 15% of the respondents file electronically. The costs to respondents choose not to file electronically is postage. The postage cost is based on 25,000 × .51 postage = $12,750.

Total Burden Hours
Activity | Number of respondents | Frequency (annually) | Total annual responses | Time per response (min) | Total annual burden (hours)
ATF Form 6A (5330.3A) | 25,000 | 1 | 25,000 | 35 | 14,583

If additional information is required contact: Darwin Arceo, Department Clearance Officer, United States Department of Justice, Justice Management Division, Policy and Planning Staff, Two Constitution Square, 145 N Street NE, 4W-218, Washington, DC.

Dated: December 4, 2023.
Darwin Arceo,
Department Clearance Officer for PRA, U.S. Department of Justice.

[FR Doc. 2023-26917 Filed 12-7-23; 8:45 am]

BILLING CODE 4410-FY-P